ENVIRONMENTAL PROTECTION AGENCY

[FRL-9984-49-OW]

Information Session; Implementation of the Water Infrastructure Finance and Innovation Act of 2014

AGENCY: Environmental Protection Agency (EPA).

ACTION: Notice.

SUMMARY: The Environmental Protection Agency is announcing plans to hold an information session on Thursday, October 11, 2018 in Seattle, Washington. The purpose of this session is to provide prospective borrowers with a better understanding of the Water Infrastructure Finance and Innovation Act (WIFIA) program requirements, application process, and to hear from WIFIA's first borrower, King County, about their experience. More information sessions and webinars will be announced soon.

DATES: The session in Seattle, Washington will be held on Thursday, October 11, 2018 from 9:00 a.m.-3:30 p.m. (PT).

ADDRESSES: The session in Seattle, Washington will be held at 1200 6th Ave., Seattle, Washington 98101. To Register: Registration information for the information session is available at https://www.epa.gov/wifia.

FOR FURTHER INFORMATION CONTACT: For further information about this notice, including registration information, contact Arielle Gerstein, EPA Headquarters, Office of Water, Office of Wastewater Management at tel.: 202-564-1868; or email: WIFIA@epa.gov.

Members of the public are invited to participate in the session as capacity allows.

SUPPLEMENTARY INFORMATION: Under WIFIA, the EPA will provide loans and loan guarantees for water infrastructure of national or regional significance. WIFIA was signed into law on June 11, 2014 as Public Law 113-121. The EPA will provide an overview of the program's statutory and eligibility requirements, application and selection process, and creditworthiness assessment. The EPA will also explain the financial benefits of WIFIA credit assistance and provide high-level information about the benefits and flexibilities of closed loans. The intended audience is prospective borrowers including municipal entities, corporations, partnerships, and State Revolving Fund programs, as well as the private and non-governmental organizations that support prospective borrowers.

Authority: Water Infrastructure Finance and Innovation Act, 33 U.S.C 3901 et seq.

Dated: September 18, 2018.
Andrew D. Sawyers,
Director, Office of Wastewater Management.

[FR Doc. 2018-20970 Filed 9-25-18; 8:45 am]

BILLING CODE 6560-50-P